DEPARTMENT OF EDUCATION

Office of Postsecondary Education

[CFDA No. 84.347]

Community Scholarship Mobilization Program; Notice Inviting Applications for New Awards for Fiscal Year (FY) 2000 Under the Community Scholarship Mobilization Program

Purpose of Program: The Community Scholarship Mobilization Program is designed to establish and support regional, State, or community program centers, and to enable such centers to foster the development of local entities in high poverty areas that promote higher education goals for students from low-income families by:

(1) Providing academic support, including guidance, counseling, mentoring, tutoring, and recognition; and (2) Providing scholarship assistance for the cost of postsecondary education.

Eligible Applicants: National organizations as defined in the statute. A National organization may receive funds on a competitive basis to enable it to support the establishment or ongoing work of regional, State or community program centers. These centers foster the development of local entities in high poverty areas to improve secondary school graduation rates and postsecondary attendance through the provision of academic support services, including guidance, counseling, mentoring, tutoring, and recognition, and scholarship assistance for the cost of postsecondary education.

Applications Available: July 10, 2000.

Deadline for Transmittal of Applications: August 16, 2000.

Deadline for Intergovernmental Review: September 15, 2000.

Estimated Available Funds: The amount referenced below is advisory and represents the Department's best estimate at this time. This will be the first year for the program. The estimated FY 2000 average size of an award will be $990,000.

Estimated Range of Awards: Up to $990,000.

Estimated Size of Awards: Up to $990,000.

Estimated Number of Awards: 1 or more.

Note: The Department is not bound by any estimates in this notice.

Project Period: Up to 60 months.

Applicable Regulations: Regulations applicable to this program are the Education Department General Administrative Regulations (EDGAR) in 34 CFR parts 74, 75, 77, 79, 80, 82, 85, 97, 98, 99 and the Higher Education Amendments of 1998, Title VIII, Part C. That statute defines several key terms used in this notice.

Selection Criteria: In evaluating an application for a new grant under this competition, the Secretary uses selection criteria under 34 CFR 75.210 of EDGAR. The Secretary informs applicants in the application package of the selection criteria and factors, if any, to be used for this competition and of the maximum weight assigned to each criterion.

For Further Information or Applications Contact: Ms. Marion Steward, Institutional Development and Undergraduate Education Service, U.S. Department of Education, 1990 K Street, NW, 6th Floor, Washington, DC 20006-8517. Telephone: (202) 502-7594. The e-mail address for Ms. Steward is:_Marion_Steward@ed.gov.

We encourage applicants to send facsimile requests for applications to (202) 502-7861.

If you use a telecommunications device for the deaf (TDD), you may call the Federal Information Relay Service (FIRS) at 1-800-877-8339.

Individuals with disabilities may obtain this document in an alternative format (e.g., Braille, large print, audiotape, or computer diskette) on request to the contact person listed in the preceding paragraph. However, the Department is not able to reproduce in an alternative format the standard forms included in the application package.

Electronic Access to This Document

You may view this document, as well as all other Department of Education documents published in the Federal Register, in text or Portable Document Format (PDF) on the Internet at either of the following sites:

http://ocfo.ed.gov/fedreg.htm

http://www.ed.gov/news.html

To use PDF you must have Adobe Acrobat Reader, which is available free at either of the previous sites. If you have questions about using PDF, call the U.S. Government Printing Office toll free at 1-888-293-6498; or in the Washington, DC area at (202) 512-1530.

Note: The official version of this document is the document published in the Federal Register. Free Internet access to the official edition of the Federal Register and the Code of Federal Regulations is available on GPO Access at: http://www.access.gpo.gov/nara/index.html

Program Authority: Pub. L. 105-244, the Higher Education Amendments of 1998, Title VIII, Part C.

Dated: June 29, 2000.
Claudio Prieto,
Acting Assistant Secretary, Office of Postsecondary Education.

[FR Doc. 00-16906 Filed 7-3-00; 8:45 am]

BILLING CODE 4000-01-U